DEPARTMENT OF THE TREASURY

Agency Information Collection Activities; Submission for OMB Review; Comment Request; Multiple IRS Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before July 24, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Internal Revenue Service (IRS)

Title: Form 1099 MISC—Miscellaneous Income.

OMB Control Number: 1545-0115.

Type of Review: Revision of a currently approved collection.

Description: Form 1099-MISC is used by payers to report payments of $600 or more of rent, prizes and awards, medical and health care payments, nonemployee compensation, and crop insurance proceeds, $10 or more of royalties, any amount of fishing boat proceeds, certain substitute payments, golden parachute payments, and an indication of direct sales of $5,000 or more.

Form: 1099-MISC.

Affected Public: Businesses or other for profits.

Estimated Number of Respondents: 99,447,800.

Frequency of Response: Annually.

Estimated Total Number of Annual Responses: 99,447,800.

Estimated Time per Response: .31 hours per response.

Estimated Total Annual Burden Hours: 30,828,818.

Title: Taxable Distributions Received From Cooperatives.

OMB Control Number: 1545-0118.

Type of Review: Revision of a currently approved collection.

Description: Form 1099-PATR is used to report patronage dividends paid by cooperatives (IRC sec. 6044). The information is used by IRS to verify reporting compliance on the part of the recipient.

Form: 1099-PATR.

Affected Public: Businesses or other for profits.

Estimated Number of Respondents: 1,820,000.

Frequency of Response: Annually.

Estimated Total Number of Annual Responses: 1,820,000.

Estimated Time per Response: .26 hours per response.

Estimated Total Annual Burden Hours: 473,201.

Title: Form 4136—Credit for Federal Tax Paid on Fuels.

OMB Control Number: 1545-0162.

Type of Review: Extension without change of a currently approved collection.

Description: Internal Revenue Code section 34 allows a credit for Federal excise tax for certain fuel uses. This form is used to figure the amount of the income tax credit. The data is used to verify the validity of the claim for the type of nontaxable or exempt use.

Form: 4136.

Affected Public: Businesses or other for-profits.

Estimated Number of Respondents: 2,441,858.

Frequency of Response: Annually.

Estimated Total Number of Annual Responses: 2,441,858.

Estimated Time per Response: 1.69 hours per response.

Estimated Total Annual Burden Hours: 4,122,076.

Title: Form 4972—Tax on Lump-Sum Distributions (From Qualified Retirement Plans of Plan Participants Born Before 1936).

OMB Control Number: 1545-0193.

Type of Review: Extension without change of a currently approved collection.

Description: IRC Section 402(e) allows taxpayers to compute a separate tax on a lump sum distribution from a qualified retirement plan. Form 4972 is used to correctly figure that tax. The data is used to verify the correctness of the separate tax. Form 4972 is also used to make the special 20% capital gain election attributable to pre-1974 participation from the lump-sum distribution.

Form: 4972.

Affected Public: Businesses or other for profits.

Estimated Number of Respondents: 17,720.

Frequency of Response: Annually.

Estimated Total Number of Annual Responses: 17,720.

Estimated Time per Response: 4.40 hours per response.

Estimated Total Annual Burden Hours: 77,968.

Title: Form 7004—Application for Automatic Extension of Time To File Certain Business Income Tax, Information, and Other Returns.

OMB Control Number: 1545-0233.

Type of Review: Extension without change of a currently approved collection.

Description: Form 7004 is used by corporations and certain non-profit institutions to request an automatic 6-month extension of time to file their income tax returns. The information is needed by IRS to determine whether Form 7004 was timely filed so as not to impose a late filing penalty in error and also to insure that the proper amount of tax was computed and deposited.

Form: 7004.

Affected Public: Businesses or other for-profits.

Estimated Number of Respondents: 6,537,500.

Frequency of Response: On Occasion.

Estimated Total Number of Annual Responses: 6,537,500.

Estimated Time per Response: 6.78 hours per response.

Estimated Total Annual Burden Hours: 44,324,250.

Title: At-Risk Limitations.

OMB Control Number: 1545-0712.

Type of Review: Extension without change of a currently approved collection.

Description: IRC section 465 requires taxpayers to limit their at-risk loss to the lesser of the loss or their amount at risk. Form 6198 is used by taxpayers to determine their deductible loss and by IRS to verify the amount deducted.

Form: 6198.

Affected Public: Businesses or other for-profits.

Estimated Number of Respondents: 230,332.

Frequency of Response: Annually.

Estimated Total Number of Annual Responses: 230,332.

Estimated Time per Response: 3.97 hours per response.

Estimated Total Annual Burden Hours: 914,419.

Title: Low-Income Housing Credit

OMB Control Number: 1545-0984.

Type of Review: Revision of a currently approved collection.

Description: The Tax Reform Act of 1986 (Code section 42) permits owners of residential rental projects providing low-income housing to claim a credit against income tax for part of the cost of constructing or rehabilitating such low-income housing. Form 8586 is used by taxpayers to compute the credit and by IRS to verify that the correct credit has been claimed.

Form: 8586.

Affected Public: Business or other for-profit organizations.

Estimated Number of Respondents: 779

Frequency of Response: Annually.

Estimated Total Number of Annual Responses: 779

Estimated Time per Response: 8.8 hours per response.

Estimated Total Annual Burden Hours: 6,855.

Title: TD 8611, Conduit Arrangements Regulations—Final (INTL-64-93).

OMB Control Number: 1545-1440.

Type of Review: Extension without change of a currently approved collection.

Description: This document contains regulations relating to when the area director may recharacterize a financing arrangement as a conduit arrangement. Such recharacterization will affect the amount of withholding tax due on financing transactions that are part of the financing arrangement. These regulations will affect withholding agents and foreign investors.

Form: None.

Affected Public: Business or other for-profit organizations.

Estimated Number of Respondents: 1,000.

Frequency of Response: Annually.

Estimated Total Number of Annual Responses: 1,000.

Estimated Time per Response: 10 hours per response.

Estimated Total Annual Burden Hours: 10,000.

Title: Commercial Revitalization Deduction.

OMB Control Number: 1545-1818.

Type of Review: Extension without change of a currently approved collection.

Description: Pursuant to Sec. 1400I of the Internal Revenue Code, this procedure provides the time and manner for states to make allocations of commercial revitalization expenditures to a new or substantially rehabilitated building that is placed in service in a renewal community.

Form: None.

Affected Public: State, Local, and Tribal Governments.

Estimated Number of Respondents: 80.

Frequency of Response: On Occasion.

Estimated Total Number of Annual Responses: 80.

Estimated Time per Response: 2.5 hours per response.

Estimated Total Annual Burden Hours: 200.

Title: Revenue Procedure 2003-39, Section 1031 LKE (Like-Kind Exchanges) Auto Leasing Programs.

OMB Control Number: 1545-1834.

Type of Review: Extension without change of a currently approved collection.

Description: Revenue Procedure 2003-39 provides safe harbors for certain aspects of the qualification under Sec. 1031 of certain exchanges of property pursuant to LKE Programs for federal income tax purposes.

Form: None.

Affected Public: Businesses or other for profits.

Estimated Number of Respondents: 8,600.

Frequency of Response: On occasion.

Estimated Total Number of Annual Responses: 8,600.

Estimated Time per Response: 1 hour per response.

Estimated Total Annual Burden Hours: 8,600.

Title: Supplemental Income and Loss.

OMB Control Number: 1545-1972.

Type of Review: Extension without change of a currently approved collection.

Description: Filers of Form 1040 use Schedule E to report income from rental real estate, royalties, partnerships, S corporations, estates, trusts, and residual interests in real estate mortgage investment conduits (REMICs).

Form: 1040 Sch. E.

Affected Public: Businesses or other for profits.

Estimated Number of Respondents: 570,000.

Frequency of Response: Annually.

Estimated Total Number of Annual Responses: 570,000.

Estimated Time per Response: 9.94 hours per response.

Estimated Total Annual Burden Hours: 5,665,800.

Title: Schedule F (Form 1040)—Profit or Loss From Farming.

OMB Control Number: 1545-1975.

Type of Review: Extension without change of a currently approved collection.

Description: Schedule F (Form 1040) is used by individuals to report their farming income, expenses and self-employment taxes derived from this income. The data is used to verify that the items reported on the form is correct.

Form: 1040 sch. F.

Affected Public: Businesses or other for-profits.

Estimated Number of Respondents: 26,546.

Frequency of Response: Annually.

Estimated Total Number of Annual Responses: 26,546.

Estimated Time per Response: 19 hours per response.

Estimated Total Annual Burden Hours: 504,374.

Title: Domestic Production Activities Deduction.

OMB Control Number: 1545-1984.

Type of Review: Revision of a currently approved collection.

Description: Section 102 of the American Jobs Creation Act of 2004 (section 199 of the Internal Revenue Code), created a domestic production activities deduction for tax years beginning after December 31, 2004. Taxpayers will use the Form 8903 and related instructions to calculate the deduction. The Form 8903 will be filed by corporations, individuals, partners (including partners of electing large partnerships), S corporation shareholders, beneficiaries of estates and trusts, cooperatives, and patrons of cooperatives.

Form: 8903.

Affected Public: Businesses or other for profits.

Estimated Number of Respondents: 30,000.

Frequency of Response: On Occasion.

Estimated Total Number of Annual Responses: 30,000.

Estimated Time per Response: 24.66 hours per response.

Estimated Total Annual Burden Hours: 739,800.

Title: Form 8910—Alternative Motor Vehicle Credit.

OMB Control Number: 1545-1998.

Type of Review: Extension without change of a currently approved collection.

Description: Taxpayers will file Form 8910 to claim the credit for certain alternative motor vehicles placed in service after 2005.

Form: 8910.

Affected Public: Businesses or other for profits.

Estimated Number of Respondents: 3,333.

Frequency of Response: On Occasion.

Estimated Total Number of Annual Responses: 3,333.

Estimated Time per Response: 5.93 hours per response.

Estimated Total Annual Burden Hours: 19,764.

Title: Form 8038-CP, Return for Credit Payments to Issuers of Qualified Bonds.

OMB Control Number: 1545-2142.

Type of Review: Extension without change of a currently approved collection.

Description: Form 8038-CP, Return for Credit Payments to Issuers of Qualified Bonds, will be used to make direct payments to State and local governments. The American Recovery and Reinvestment Act of 2009, Public Law 111-5, provides State and local governments with the option of issuing a tax credit bond instead of a tax-exempt governmental obligation bond. The bill gives State and local governments the option to receive a direct payment from the Federal government equal to a subsidy that would have been received through the Federal tax credit for bonds.

Form: 8038-CP.

Affected Public: State, Local, and Tribal Governments.

Estimated Number of Respondents: 20,000.

Frequency of Response: Annually.

Estimated Total Number of Annual Responses: 20,000.

Estimated Time per Response: 12.33 hours per response.

Estimated Total Annual Burden Hours: 246,600.

Title: Notice 2009-52, Election of Investment Tax Credit in Lieu of Production Tax Credit; Coordination with Department of Treasury Grants for Specified Energy Property in Lieu of Tax Credits.

OMB Control Number: 1545-2145.

Type of Review: Extension without change of a currently approved collection.

Description: The notice provides a description of the procedures that taxpayers will be required to follow to make an irrevocable election to take the investment tax credit for energy property under section 48 of the Internal Revenue Code in lieu of the production tax credit under section 45 of the Internal Revenue Code.

Form: None.

Affected Public: Businesses or other for profits.

Estimated Number of Respondents: 100.

Frequency of Response: Annually.

Estimated Total Number of Annual Responses: 100.

Estimated Time per Response: 1 hours per response.

Estimated Total Annual Burden Hours: 100.

Title: Notice of Medical Necessity Criteria under the Mental Health Parity and Addiction Equity Act of 2008.

OMB Control Number: 1545-2165.

Type of Review: Revision of a currently approved collection.

Description: Section 9812 of the Code requires group health plans maintained by an employer with more than 50 employees to disclose upon request to participants and beneficiaries of the plan the medical necessity criteria used in making decisions regarding claims for benefits under the plan.

Form: None.

Affected Public: Businesses or other for profits.

Estimated Number of Respondents: 1,217,875.

Frequency of Response: Annually.

Estimated Total Number of Annual Responses: 1,217,875.

Estimated Time per Response: 3 hours per response.

Estimated Total Annual Burden Hours: 27,206.

Title: Form 5316, Application for Group or Pooled Trust Ruling.

OMB Control Number: 1545-2166.

Type of Review: Extension without change of a currently approved collection.

Description: Group/pooled trust sponsors file this form to request a determination letter from the IRS for a determination that the trust is a group trust arrangement as described in Rev. Rul. 81-100, 1981-1 C.B. 326 as modified and clarified by Rev. Rul. 2004-67, 2004-28 I.R.B.

Form: 5316.

Affected Public: Businesses or other for profits.

Estimated Number of Respondents: 200.

Frequency of Response: Annually.

Estimated Total Number of Annual Responses: 200.

Estimated Time per Response: 19 hours per response.

Estimated Total Annual Burden Hours: 3,800.

Title: Annual Registration Statement Identifying Separated Participants With Deferred Vested Benefits.

OMB Control Number: 1545-2187.

Type of Review: Extension without change of a currently approved collection.

Description: In 2007, the Department of Labor (DOL) published a final rule requiring plans subject to the annual reporting requirements of Title I of Employee Retirement Income Security Act (ERISA) to electronically file the Form 5500, Annual Return/Report of Employee Benefit. In order to accommodate the DOL's mandate for electronic filing of the Form 5500 series, Schedule (SSA) has been eliminated and replaced with Form 8955-SSA. The information provided by plan sponsors on Form 8955-SSA will be transmitted to the Social Security Administration (SSA) who will provide it to separated participants when those participants file for social security benefits.

Form: 8955-SSA.

Affected Public: Businesses or other for profits.

Estimated Number of Respondents: 200,000.

Frequency of Response: Annually.

Estimated Total Number of Annual Responses: 200,000.

Estimated Time per Response: .83 hours per response.

Estimated Total Annual Burden Hours: 166,000.

Title: Form 14145—IRS Applicant Contact Information.

OMB Control Number: 1545-2240.

Type of Review: Revision of a currently approved collection.

Description: Form 14145, IRS Applicant Contact Information, is used by the IRS Recruitment Office to collect contact information from individuals who may be interested in working for the IRS now, or at any time in the future (potential applicants).

Form: 14145.

Affected Public: Individuals or Households.

Estimated Number of Respondents: 16,045.

Frequency of Response: On occasion.

Estimated Total Number of Annual Responses: 16,045.

Estimated Time per Response: .08 hours per response.

Estimated Total Annual Burden Hours: 1,364.

Authority: 44 U.S.C. 3501 et seq.

Dated: June 17, 2019.
Jennifer P. Quintana,
Treasury PRA Clearance Officer.

[FR Doc. 2019-13348 Filed 6-21-19; 8:45 am]

BILLING CODE 4830-01-P